ENVIRONMENTAL PROTECTION AGENCY

[ER-FRL-6685-3]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 7, 2006 (97 FR 27647).

Draft EISs

EIS No. 20060300, ERP No. D-AFS-J65469-CO, White River National Forest Travel Management Plan, To Accommodate and Balance Transportation Needs, Implementation, Eagle, Garfield, Gunnison, Mesa, Moffat, Pitkin, Rio Blanco, Routt and Summit Counties, CO.

Summary: EPA expressed environmental concerns about the potential for adverse impacts to water quality from non-system roads and from roads needing repair or maintenance. The final EIS should address the strategy for implementing effective enforcement and compliance with new road designations and restrictions, as well as repairing and maintaining existing roads.

Rating EC2.

EIS No. 20070016, ERP No. D-COE-F36167-OH, Dover Dam Safety Assurance Program Project, Modifications and Upgrades, Funding, Muskingum River Basin, Tscarawas County, OH.

Summary: EPA expressed environmental concerns about the proposed approach to remediate potential hazardous wastes that may be present in the project area, and recommended that a detailed evaluation and remediation plan be developed and included in the Final EIS.

Rating EC2.

Final EISs

EIS No. 20060459, ERP No. F-NPS-J61108-SD, Badlands National Park/North Unit General Management Plan, Implementation, Jackson, Pennington and Shananon Counties, SD.

Summary: The final EIS addressed EPA's concerns about impacts on water quality and ripairian habitiat; however, EPA continues express concerns about the downward trend in air quality, which is beleived to be due to human-caused sources and fires within and outside of the Park. EPA encourages the NPS to continue taking actions to mitigate these sources of air pollution in and around the Park.

EIS No. 20060470, ERP No. F-FHW-J40170-CO, I-25 Valley Highway Project, Transportation Improvement from Logan to U. S. 6, Denver County, CO.

Summary: EPA does not object to the proposed project.

EIS No. 20070022, ERP No. F-AFS-F−5062-MN, Echo Trail Area Forest Management Project, Forest Vegetation Management and Related Transportation System, Superior National Forest Land and Resource Management Plan, Implementation, Lacroix Ranger District and Kawishiwi Ranger District, St. Louis and Lake Counties, MN.

Summary: The final EIS addressed concerns regarding mitigation for impacts to water quality and operational maintenance of logging equipment; therefore, EPA does not object to the proposed project.

EIS No. 20070037, ERP No. F-FHW-J40165-MT, U.S. Highway 89, Improvements, from Browning to Hudson Bay Divide, Endangered Species Act, NPDES Permit and U.S. Army COE Section 404 Permit, Glacier County, MT.

Summary: EPA expressed environmental concerns about impacts to water quality, wetlands, and aquatic habitat, as well as impacts to wildlife.

EIS No. 20070040, ERP No. F-DOD-A10076-00, PROGRAMMATIC—Missile Defense Agency, To Incrementally Develop, Test, Deploy, and Plan for Decommissioning of the Ballistic Missile Defense System (BMDS).

Summary: No formal comment letter was sent to the preparing agency.

EIS No. 20070086, ERP No. F-USA-D15000-VA, Fort Lee, Virginia and Fort A. P. Hill, Virginia Project, Implementation of Base Closure and Realignment (BRAC) Recommendations and Other Army Actions, Prince George County, Petersburg, Virginia Hopewell, Virginia; Caroline County, Essex County, VA.

Summary: EPA does not object to the proposed project.

Dated: March 20, 2007.
Robert W. Hargrove,
Director, NEPA Compliance Division, Office of Federal Activities.

[FR Doc. E7-5356 Filed 3-22-07; 8:45 am]

BILLING CODE 6560-50-P